DEPARTMENT OF THE INTERIOR

Fish and Wildlife Service

50 CFR Part 17

[Docket No. FWS-R8-ES-2018-0042; FXES11130900000-167-FF09E42000]

RIN 1018-BD00

Endangered and Threatened Wildlife and Plants; Reclassification of Layia carnosa (Beach Layia) From Endangered to Threatened Species Status With Section 4(d) Rule

AGENCY: Fish and Wildlife Service, Interior.

ACTION: Proposed rule; reopening of comment period; announcement of a public informational meeting and public hearing.

SUMMARY: We, the U.S. Fish and Wildlife Service (Service), recently proposed to reclassify the beach layia (Layia carnosa) as a threatened species with a rule issued under section 4(d) of the Endangered Species Act of 1973 (Act), as amended. We are reopening the proposed rule comment period to give all interested parties an additional opportunity to comment on the proposed rule, and we announce a public informational meeting and public hearing on the proposed rule. Comments previously submitted need not be resubmitted as they are already incorporated into the public record and will be fully considered in the final rule.

DATES: Comment submission: The comment period for the proposed rule that published September 30, 2020 (85 FR 61684), is reopened. We will accept comments received or postmarked on or before May 13, 2021. Comments submitted electronically using the Federal eRulemaking Portal (see ADDRESSES, below) must be received by 11:59 p.m. Pacific Time on the closing date.

Public informational meeting and public hearing: On April 29, 2021, we will hold a public informational meeting from 4:30 p.m. to 5 p.m., Pacific Time, followed by a public hearing from 5 p.m. to 6 p.m., Pacific Time.

ADDRESSES:

Availability of documents: You may obtain copies of the September 30, 2020, proposed rule and associated documents on the internet at http://www.regulations.gov under Docket No. FWS-R4-ES-2018-0042.

Public informational meeting and public hearing: The public informational meeting and the public hearing will be held virtually using the Zoom platform. See Public Hearing, below, for more information.

Comment submission: You may submit comments by one of the following methods:

(1) Electronically: Go to the Federal eRulemaking Portal: http://www.regulations.gov. In the Search box, enter FWS-R8-ES-2018-0042, which is the docket number for the proposed reclassification and section 4(d) rule. Then click on the Search button. On the resulting page, in the Search panel on the left side of the screen, under the Document Type heading, click on the Proposed Rules link to locate this document. You may submit a comment by clicking on “Comment Now!”

(2) By hard copy: Submit by U.S. mail to: Public Comments Processing, Attn: Docket No. FWS-R8-ES-2018-0042, U.S. Fish and Wildlife Service, MS: PRB/3W; 5275 Leesburg Pike, Falls Church, VA 22041-3803.

We request that you send comments only by the methods described above. We will post all comments on http://www.regulations.gov. This generally means that we will post any personal information you provide us (see Public Comments, below, for more information).

FOR FURTHER INFORMATION CONTACT: Jenny Ericson, Acting Field Supervisor, U.S. Fish and Wildlife Service, Arcata Fish and Wildlife Office, 1655 Heindon Rd., Arcata, CA 95521; telephone 707-822-7201. Persons who use a telecommunications device for the deaf (TDD) may call the Federal Relay Service at 800-877-8339.

SUPPLEMENTARY INFORMATION:

Background

On September 30, 2020, we published a proposed rule (85 FR 61684) to reclassify beach layia from endangered to threatened (i.e., “downlist” the species) under the Act (16 U.S.C. 1531 et seq.). The proposed rule established a 60-day public comment period, ending November 30, 2020. We received a request for a public hearing. Therefore, we are reopening the comment period and announcing a public informational meeting and a public hearing to allow the public an additional opportunity to provide comments on the proposed rule.

For a description of previous Federal actions concerning beach layia and information on the types of comments that would be helpful to us in promulgating this rulemaking action, please refer to the September 30, 2020, proposed rule (85 FR 61684).

Public Hearing

We have scheduled a public informational meeting and public hearing on our September 30, 2020, proposed rule to reclassify beach layia (85 FR 61684). We will hold the public informational meeting and public hearing on the date and at the times listed above under Public informational meeting and public hearing in DATES. We are holding the public informational meeting and public hearing via the Zoom online video platform and via teleconference so that participants can attend remotely. For security purposes, registration is required. To listen and view the meeting and hearing via Zoom, listen to the meeting and hearing by telephone, or provide oral public comments at the public hearing by Zoom or telephone, you must register. For information on how to register, or if you encounter problems joining Zoom the day of the meeting, visit https://www.fws.gov/arcata/es/plants/beachLayia/layia.html. Registrants will receive the Zoom link and the telephone number for the public informational meeting and public hearing. If applicable, interested members of the public not familiar with the Zoom platform should view the Zoom video tutorials (https://support.zoom.us/hc/en-us/articles/206618765-Zoom-video-tutorials) prior to the public informational meeting and public hearing.

The public hearing will provide interested parties an opportunity to present verbal testimony (formal, oral comments) regarding the September 30, 2020, proposed rule to reclassify beach layia (85 FR 61684). While the public informational meeting will be an opportunity for dialogue with the Service, the public hearing is not. The purpose of the public hearing is to provide a forum for accepting formal verbal testimony, which will then become part of the record for the proposed rule. In the event there is a large attendance, the time allotted for verbal testimony may be limited. Therefore, anyone wishing to provide verbal testimony at the public hearing is encouraged to provide a prepared written copy of their statement to us through the Federal eRulemaking Portal, or U.S. mail (see ADDRESSES, above). There are no limits on the length of written comments submitted to us. Anyone wishing to provide verbal testimony at the public hearing must register before the hearing (https://www.fws.gov/arcata/es/plants/beachLayia/layia.html). The use of a virtual public hearing is consistent with our regulations at 50 CFR 424.16(c)(3).

Reasonable Accommodation

The Service is committed to providing access to the public informational meeting and public hearing for all participants. Closed captioning will be available during the public informational meeting and public hearing. Further, a full audio and video recording and transcript of the public hearing will be posted online at https://www.fws.gov/arcata/es/plants/beachLayia/layia.html after the hearing. Participants will also have access to live audio during the public informational meeting and public hearing via their telephone or computer speakers. Persons with disabilities requiring reasonable accommodations to participate in the meeting and/or hearing should contact the person listed under FOR FURTHER INFORMATION CONTACT at least 5 business days prior to the date of the meeting and hearing to help ensure availability. An accessible version of the Service's public informational meeting presentation will also be posted online at https://www.fws.gov/arcata/es/plants/beachLayia/layia.html prior to the meeting and hearing (see DATES, above). See https://www.fws.gov/arcata/es/plants/beachLayia/layia.html for more information about reasonable accommodation.

Public Comments

If you submit information via http://www.regulations.gov, your entire submission—including any personal identifying information—will be posted on the website. If your submission is made via hard copy that includes personal identifying information, you may request at the top of your document that we withhold this information from public review. However, we cannot guarantee that we will be able to do so. We will post all hardcopy submissions on http://www.regulations.gov. Comments and materials we receive, as well as supporting documentation we used in preparing the proposed rule, will be available for public inspection on http://www.regulations.gov.

Authors

The primary author of this document is Ecological Services staff of the Pacific Southwest Regional Office, U.S. Fish and Wildlife Service, Sacramento, California.

Authority

The authority for this action is the Endangered Species Act of 1973, as amended (16 U.S.C. 1531 et seq.).

Martha Williams,
Principal Deputy Director, Exercising the Delegated Authority of the Director, U.S. Fish and Wildlife Service.

[FR Doc. 2021-07608 Filed 4-12-21; 8:45 am]

BILLING CODE 4333-15-P